DEPARTMENT OF LABOR

Occupational Safety and Health Administration

[Docket No. OSHA-2010-0055]

Recordkeeping and Reporting Occupational Injuries and Illnesses; Revision of the Office of Management and Budget's (OMB) Approval of Information Collection (Paperwork) Requirements

AGENCY: Occupational Safety and Health Administration (OSHA), Labor.

ACTION: Request for public comments.

SUMMARY: OSHA solicits public comments concerning the proposed revision to combine two separate OMB approved Recordkeeping and Reporting Occupational Injuries and Illnesses Information Collections.

DATES: Comments must be submitted (postmarked, sent, or received) by January 27, 2025.

ADDRESSES:

Electronically: You may submit comments and attachments electronically at https://www.regulations.gov, which is the Federal eRulemaking Portal. Follow the instructions online for submitting comments.

Docket: To read or download comments or other material in the docket, go to https://www.regulations.gov. Documents in the docket are listed in the https://www.regulations.gov index; however, some information (e.g., copyrighted material) is not publicly available to read or download through the websites. All submissions, including copyrighted material, are available for inspection through the OSHA Docket Office. Contact the OSHA Docket Office at (202) 693-2350 (TTY (877) 889-5627) for assistance in locating docket submissions.

Instructions: All submissions must include the agency name and OSHA docket number (OSHA-2010-0055) for the Information Collection Request (ICR). OSHA will place all comments, including any personal information, in the public docket, which may be made available online. Therefore, OSHA cautions interested parties about submitting personal information such as social security numbers and birthdates.

For further information on submitting comments, see the “Public Participation” heading in the section of this notice titled SUPPLEMENTARY INFORMATION.

FOR FURTHER INFORMATION CONTACT: Seleda Perryman, Directorate of Standards and Guidance, OSHA, U.S. Department of Labor; telephone (202) 693-2222.

SUPPLEMENTARY INFORMATION:

I. Background

The Department of Labor, as part of the continuing effort to reduce paperwork and respondent (i.e., employer) burden, conducts a preclearance consultation program to provide the public with an opportunity to comment on proposed and continuing information collection requirements in accordance with the Paperwork Reduction Act of 1995 (PRA) (44 U.S.C. 3506(c)(2)(A)). This program ensures that information is in the desired format, reporting burden (time and costs) is minimal, the collection instruments are clearly understood, and OSHA's estimate of the information collection burden is accurate. The Occupational Safety and Health Act of 1970 (OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of effort in obtaining information (29 U.S.C. 657).

The Agency requests a revision to incorporate the Improve Tracking of Workplace Injuries and Illnesses paperwork package, OMB Control Number 1218-0279, into the Recordkeeping and Reporting Occupational Injuries and Illnesses (29 CFR part 1904) paperwork package, OMB Control Number 1218-0176. While both paperwork packages contain information collections contained in the Recording and Reporting Occupational Injuries and Illnesses (29 CFR part 1904), a separate paperwork package for the Improve Tracking of Workplace Injuries and Illnesses rulemaking was necessary to ensure continued OMB approval of the existing information collections in the Recordkeeping and Reporting Occupational Injuries and Illnesses (29 CFR part 1904) paperwork package. The Occupational Safety and Health Act (OSH Act) and 29 CFR part 1904 prescribe that certain employers maintain records of job-related injuries and illnesses. Other employers with 100 or more employees in certain designated industries are required to submit electronically to OSHA information captured on their completed OSHA 300, 301, and 300A Forms. The injury and illness records are intended to have multiple purposes. One purpose is to provide data needed by OSHA to carry out enforcement and intervention activities to provide workers a safe and healthful work environment. Access to this data allows the Agency to more efficiently focus its enforcement and outreach resources toward establishments that are experiencing specific types of occupational injury and illness Expanded public access to establishment-specific, case-specific, injury and illness data will allow employers, employees, potential employees, employee representatives, customers, potential customers, researchers, and the general public to make informed decisions about the workplace safety and health at a given establishment, and this accessibility will ultimately result in the reduction of occupational injuries and illnesses.

II. Special Issues for Comment

OSHA has a particular interest in comments on the following issues:

• Whether the proposed information collection requirements are necessary for the proper performance of the agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information, and transmission techniques.

III. Proposed Actions

OSHA is requesting a revision the currently approved collection of information requirements contained in the paperwork package for Recordkeeping and Reporting Occupational Injuries and Illnesses (29 CFR part 1904) by OMB. This revision is incorporating the collections of information contained in the paperwork package for Improve Tracking of Injuries and Illnesses, OMB Control Number 1218-0279, with the paperwork package for Recordkeeping and Reporting Occupational Injuries and Illnesses paperwork package, OMB Control Number 1218-0176. As a result, the agency is requesting a program change increase of 112,551 hours and an adjustment decrease of 5,934 hours the burden going from 2,167,111 to 2,161,177 hours.

OSHA will summarize the comments submitted in response to this notice and will include this summary in the request to OMB to extend the approval of the information collection requirements.

Type of Review: Revision of a currently approved collection.

Title: Recordkeeping and Reporting Occupational Injuries and Illnesses (29 CFR part 1904).

OMB Control Number: 1218-0176.

Affected Public: Business or other for-profits.

Number of Respondents: 1,239,687.

Number of Responses: 5,571,568.

Frequency of Responses: On occasion, Annual.

Average Time per Response: Varies.

Estimated Total Burden Hours: 2,161,177.

Estimated Cost (Operation and Maintenance): $0.

IV. Public Participation—Submission of Comments on This Notice and Internet Access to Comments and Submissions

You may submit comments in response to this document as follows: (1) electronically at https://www.regulations.gov, which is the Federal eRulemaking Portal; or (2) by facsimile (fax), if your comments, including attachments, are not longer than 10 pages you may fax them to the OSHA Docket Office at (202) 693-1648. All comments, attachments, and other material must identify the agency name and the OSHA docket number for the ICR (Docket No. OSHA-2010-0055). You may supplement electronic submission by uploading document files electronically.

Comments and submissions are posted without change at https://www.regulations.gov. Therefore, OSHA cautions commenters about submitting personal information such as social security numbers and dates of birth. Although all submissions are listed in the https://www.regulations.gov index, some information (e.g., copyrighted material) is not publicly available to read or download from this website. All submission, including copyrighted material, are available for inspection and copying at the OSHA Docket Office. Information on using the https://www.regulations.gov website to submit comments and access the docket is available at the website's “User Tips” link.

Contact the OSHA Docket Office at (202) 693-2350, (TTY (877) 889-5627) for information about materials not available from the website, and for assistance in using the internet to locate docket submissions.

V. Authority and Signature

James S. Frederick, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on November 20, 2024.
James S. Frederick,
Deputy Assistant Secretary of Labor for Occupational Safety and Health.

[FR Doc. 2024-27718 Filed 11-26-24; 8:45 am]

BILLING CODE 4510-26-P